DEPARTMENT OF LABOR

Employment and Training Administration

Proposed Information Collection Request for Form MA 8-7, Transmittal for Unemployment Insurance Materials; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the Form MA 8-7, Transmittal for Unemployment Insurance Materials. A copy of the proposed information collection request (ICR) can be obtained by contacting the office listed below in the addressee section of this notice or by accessing: http://www.doleta.gov/OMBCN/OMBControlNumber.cfm.

DATES: Submit comments on or before March 13, 2007.

ADDRESSES: Send comments to Robert Johnston, Room S-4231, U.S. Department of Labor, 200 Constitution Avenue, NW., Washington, DC 20210; phone (202) 693-3005 (this is not a toll-free number); internet address johnston.robert@dol.gov; fax (202) 693-2874.

SUPPLEMENTARY INFORMATION:

I. Background

Department of Labor, Employment and Training Administration regulations, 20 CFR 601, Administrative Procedures, contains collection of information requirements at Sections 601.2 and 601.3. Section 601.2 requires states to submit copies of their unemployment compensation laws for approval by the Secretary of Labor so that the Secretary may determine the status of state laws. Section 601.3 requires states to “submit all relevant state materials such as statutes, executive and administrative orders, legal opinions, rules, regulations, interpretations, court decisions, etc.” These materials are used by the Secretary to certify to the Secretary of Treasury whether employers in the state qualify for tax credits under Sections 3303 and 3304 of the Federal Unemployment Tax Act, and if the state qualifies for grants for the administration of their unemployment compensation laws by meeting the conditions found in Section 303 of the Social Security Act. If this information is not available, the Secretary cannot make such certifications. To facilitate transmittal of required material, the Department prescribes the use of Form MA 8-7, Transmittal for Unemployment Insurance Materials. This simple check off form is used by the states to identify material being transmitted to the Department of Labor/Employment Training Administration and allows the material to be routed to appropriate staff for prompt action. States could not be certified if this information was not collected and Form MA 8-7 greatly facilitates its receipt.

II. Desired Focus of Comments

Currently, the Employment and Training Administration is soliciting comments concerning the proposed extension collection of the MA 8-7, Transmittal for Unemployment Insurance Materials. The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request (ICR) can be obtained by contacting the office listed above in the addressee section of this notice.

III. Current Actions

Type of Review: Extension.

Agency: Employment and Training Administration.

Title: Transmittal for Unemployment Insurance Materials.

OMB Number: 1205-0222.

Agency Number: MA 8-7.

Affected Public: State Governments.

Cite/Reference/Form/etc: Social Security Act, Section 303(a)(6).

Total Respondents: 53.

Frequency: As needed.

Total Responses: 600.

Average Time per Response: 1 minute.

Estimated Total Burden Hours: 10 hours.

Total Burden Cost (capital/startup): None.

Total Burden Cost (operating/maintaining): None

Comments submitted in response to this comment request will be summarized and/or included in the request for Office of Management and Budget approval of the information collection request; they will also become a matter of public record.

Dated: January 4, 2007.
Cheryl Atkinson,
Administrator, Office of Workforce Security.

[FR Doc. E7-352 Filed 1-11-07; 8:45 am]

BILLING CODE 4510-30-P